DEPARTMENT OF COMMERCE

Bureau of Industry and Security

In the Matter of: Katie Ellen O'Brien, 1026 East Spence Avenue, Unit 103, Tempe, AZ 85281; Amended Order Denying Export Privileges

On January 17, 2019, in the U.S. District Court for the District of Arizona, Katie Ellen O'Brien (“O'Brien”) was convicted of violating 18 U.S.C. 554(a) and 18 U.S.C. 1001(a)(2). Specifically, O'Brien was convicted of making false statements or misrepresentations to the U.S. Government during the course of an investigation and smuggling and attempting to smuggle firearms from the United States to Mexico. As a result of her conviction, the Court sentenced O'Brien to 60 months confinement with credit for time served, three years supervised release, and a $600 special assessment.

On April 12, 2023, I issued an order denying O'Brien's export privileges, pursuant to section 1760(e) of the Export Control Reform Act (“ECRA”),¹ for a period of 10 years from the date of her conviction. In addition, the Order also incorporated the Office of Exporter Services decision to revoke any Bureau of Industry and Security (“BIS”) licenses or other authorizations issued under ECRA, in which O'Brien had an interest at the time of her conviction. ²

¹ ECRA was enacted on August 13, 2018, as part of the John S. McCain National Defense Authorization Act for Fiscal Year 2019, and as amended is codified at 50 U.S.C. 4801-4852.

² The Director, Office of Export Enforcement, is the authorizing official for issuance of denial orders pursuant to amendments to the Regulations (85 FR 73411, November 18, 2020).

Prior to issuance of the April 12, 2023 Order, as provided in section 766.25 of the Export Administration Regulations (“EAR” or the “Regulations”), BIS provided notice and opportunity for O'Brien to make a written submission to BIS. 15 CFR 766.25.³ BIS did not receive a written submission from O'Brien.

³ The Regulations are currently codified in the Code of Federal Regulations at 15 CFR parts 730-774 (2022).

Following issuance of the April 12, 2023 Order, BIS received notification that the last known address listed on the Order was incorrect. Specifically, BIS has since learned that another individual named Katie O'Brien, who is not the intended subject of the Denial Order, resides at the address listed on the April 12, 2023 Order. BIS has subsequently obtained updated information that indicates that the last known address for the individual who is the intended subject of the Denial Order is 1026 East Spence Avenue, Unit 103, Tempe, AZ 85281. Therefore, BIS is amending the April 12, 2023 Order to reflect the last known address of the individual convicted of the listed offenses for purposes of the denial of this individual's export privileges.

Accordingly, it is hereby ordered:

First, from the date of this Order until January 17, 2029, Katie Ellen O'Brien, with a last known address of 1026 East Spence Avenue, Unit 103, Tempe, AZ 85281, and when acting for or on her behalf, her successors, assigns, employees, agents or representatives (“the Denied Person”), may not directly or indirectly participate in any way in any transaction involving any commodity, software or technology (hereinafter collectively referred to as “item”) exported or to be exported from the United States that is subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export, reexport, or transfer (in-country) to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, pursuant to section 1760(e) of ECRA and sections 766.23 and 766.25 of the Regulations, any other person, firm, corporation, or business organization related to O'Brien by ownership, control, position of responsibility, affiliation, or other connection in the conduct of trade or business may also be made subject to the provisions of this Order in order to prevent evasion of this Order.

Fourth, in accordance with part 756 of the Regulations, O'Brien may file an appeal of this Order with the Under Secretary of Commerce for Industry and Security. The appeal must be filed within 45 days from the date of this Order and must comply with the provisions of part 756 of the Regulations.

Fifth, a copy of this Order shall be delivered to O'Brien and shall be published in the Federal Register.

Sixth, this Order is effective immediately and shall remain in effect until January 17, 2029.

John Sonderman,
Director, Office of Export Enforcement.

[FR Doc. 2023-20049 Filed 9-14-23; 8:45 am]

BILLING CODE P